DEPARTMENT OF HEALTH AND HUMAN SERVICES

Centers for Disease Control and Prevention

Statement of Organization, Functions, and Delegations of Authority.

Part C (Centers for Disease Control and Prevention) of the Statement of Organization, Functions, and Delegations of Authority of the Department of Health and Human Services (45 FR 67722-76, dated October 14, 1980, and corrected at 45 FR 69296, October 26, 1980, as amended most recently at 70 FR 28540-28541, dated May 18, 2005) is amended to reorganize the Office of Security and Emergency Preparedness, Office of the Chief Operating Officer.

Section C-B, Organization and Functions, is hereby amended as follows:

Delete in its entirety the functional statement for the Office of Security and Emergency Preparedness (CAJ8), Office of the Chief Operations Officer (CAJ) and insert the following:

Office of Security and Emergency Preparedness (CAJJ). The Office of Security and Emergency Preparedness (OSEP), serves as CDEC's lead organizational entity for providing the overall framework, direction, coordination, implementation, oversight and accountability for the threat information analyses and infrastructure protection program. OSEP serves as the primary liaison for Homeland Security activities, provides a secure work environment for CDC/ATSDR personnel, visitors and contractors, and plans and implements the agency's crisis management activities which ensure a continued public health response to the nation.

Office of the Director (CAJJ1). (1) Directs, manages, coordinates and evaluates the programs and activities of the Office of Security and Emergency Preparedness (OSEP); (2) develops goals and objectives and provides leadership, policy formulation and guidance in program planning and development; (3) prepares, reviews, and coordinates budgetary, informational, and programmatic documents; (4) serves as the agency's primary link to federal, state, and local law enforcement intelligence, homeland security and emergency response agencies; (5) coordinates, in collaboration with the appropriate OSEP and CDC components, security and emergency preparedness activities; (6) advises the director, CDC, on policy matters concerning OSEP programs and activities; (7) coordinates development and review of regulatory documents and congressional reports; (8) analyzes proposed legislation with respect to OSEP's programs, goals and objectives; (9) provides leadership and operational and technical support for the development and implementation of intelligence activities; (10) gathers, analyzes and disseminates intelligence; and identifies training needs and recommends specific training objectives to be met and the methods to achieve them (i.e. Security Awareness Counterintelligence Awareness); (11) provides policy and implementation guidance on the standards for the use of classified document control for CDC; (12) manages and operates the agency's secure communications systems and classified documents control procedures; (13) acts as Communications Security Custodian for all classified matters involving the National Security Agency; (14) manages 24-hour operations of CDC's secure communications office; (15) transports classified and unclassified information between CDC and the Armed Forces Courier Service; (16) manages operation of the U.S. Department of State cable system for CDC; (17) maintains CDC's emergency destruction plan for classified material and equipment; (18) develops cost analysis for communications interoperability plans throughout CDC; (19) manages such frequency usage for CDC, Office of Security and Emergency Preparedness; (20) conducts preliminary investigations of security violations relative to the loss or compromise/suspected compromise of sensitive, classified or crypto-logic materials or devices throughout CDC; (21) performs prepublication review of Classified and Sensitive Information; (22) performs security audits, inspections, and staff assistance/training visits in CDC Field Offices and distant operating locations world-wide; (23) serves as the field locations primary link to OSEP physical security operations, personnel reliability operations, intelligence and counter intelligence operations, and emergency preparedness operations; (24) responsible for implementing, maintaining, and updating of CDCs Integrated Emergency Management Program, Emergency Response Plan (ERPs) and CDC Continuity Of Operations (COOP) communications vehicles; (25) provides leadership and coordination in planning and implementation for internal emergency incidents affecting any CDC leased or owned facilities; (26) coordinates and provides training to all campus Emergency Response Teams, the Emergency Support Team, and the Executive Management Team; (27) conducts and evaluates annual tabletop, functional, and full-scale exercises for all CDC facilities with ERPs, (28) provides recommendations for future emergency management and emergency response related programs, policies, and/or procedures; (29) provides global security oversight in coordination with US embassies.

Physical Security Operations Branch (CAJJB). (1) Provides coordination, guidance, and security operations to all facilities CDC-wide including all owned and leased sites; (2) provides campus-wide access control for all CDC facilities in the metro Atlanta area; (3) oversees Security Operations Center (SOC); (4) provides management and oversight of contract Guard Force and local police; (5) controls badge and ID operations; (6) responsible for physical security during emergency operations; (7) promotes theft prevention, provides training and conducts investigations; (8) conducts site surveys to assess all physical security activities and correct deficiencies and implement improvement as necessary; (9) maintains all security related equipment, to include, but not limited to, x-ray machines metal detectors, CCTV systems, Cardkey Systems, etc.; (10) manages security at all owned and leased facilities in the Atlanta area; (11) manages Locksmith Office; (12) maintains inventory controls and measures and implements, installs, repairs, and re-keys all locks with emphasis on the overall physical security of CDC and its owned and leased facilities; (13) provides security recommendations to CIO's regarding capabilities and limitations of locking devices; (14) provides combination change services to organizations equipped with cipher locking devices; (15) coordinates with engineers and architects on CDC lock and keying requirements for new construction; (16) operates the security control room 24 hours a day, seven days a week; (17) maintains 24-hour emergency notification procedures; (18) manages and maintains the emergency alert system; (19) improves and expands video monitoring to ensure the security of all employees, visitors, contractors and the general public while at the CDC; (20) reviews and grants access to Select Agent laboratories for individuals when the properly approved paperwork is presented for processing.

Personnel Suitability and Select Agent Compliance Branch (CAJJC). (1) Maintains compliance with the Select Agent rule (42 CFR Part 73) for Select Agents housed within the CDC; (2) conducts background investigations and personnel suitability adjudications for employment with the Centers for Disease Control and Prevention in accordance with 5 CFR 731, Executive Order 12968 and Executive Order 10450; (3) submits documentation for security clearances, and maintains an access roster in a security clearance database; (4) implements high risk investigations such as Public Trust Investigations for employees GS-13s and above who meet Department of Health and Human Services (DHHS) criteria standards for employees working in Public Trust positions; (5) conducts adjudications for National Agency Check and Inquiry (NACI) cases and assists DHHS in adjudicating security clearance cases; (6) provides personnel security services for full time employees (FTEs), guest researchers, visiting scientists, students, contract employees, fellows, and the commissioned corps; (7) conducts initial “Security Education Briefing” and annual Operational Security (OPSEC) Training; (8) coordinate employee drug testing; (9) maintains inventory controls and manages inventory systems; (10) responsible for providing identification badges and cardkey access for personnel within all CDC metro Atlanta area facilities as well as some out-of-state CDC campuses; (11) enrolls particular individuals in the biometric encoding computer; (12) maintains hard copy records of all individuals' requests and authorizations for access control readers.

Dated: April 1, 2005.
William H. Gimson,
Chief Operating Officer, Centers for Disease Control and Prevention (CDC).

[FR Doc. 05-10397 Filed 5-24-05; 8:45 am]

BILLING CODE 4160-18-M